DEPARTMENT OF COMMERCE

National Oceanic and Atmospheric Administration

50 CFR Part 622

[Docket Nos. 100120037-1626-02 and 101217620-1788-03]

RIN 0648-XF344

Fisheries of the Caribbean, Gulf of Mexico, and South Atlantic; 2017 Accountability Measure-Based Closures for Recreational Species in the U.S. Caribbean off Puerto Rico

AGENCY: National Marine Fisheries Service (NMFS), National Oceanic and Atmospheric Administration (NOAA), Commerce.

ACTION: Temporary rule; closures.

SUMMARY: NMFS implements accountability measures (AMs) for two species groups in the exclusive economic zone (EEZ) of the U.S. Caribbean off Puerto Rico for the 2017 fishing year through this temporary rule. NMFS has determined that recreational sector annual catch limits (ACLs) in the EEZ off Puerto Rico were exceeded for wrasses and parrotfishes based on average landings during the 2013-2015 fishing years. This temporary rule reduces the lengths of the 2017 fishing seasons for these species groups by the amounts necessary to ensure that landings do not exceed the applicable recreational ACLs in 2017. NMFS closes the recreational sectors for these species groups beginning on the dates specified in the DATES section and continuing through the end of the current fishing year, December 31, 2017. These AMs are necessary to protect the Caribbean reef fish resources in the EEZ off Puerto Rico.

DATES: This rule is effective for recreational sector wrasses in the EEZ off Puerto Rico at 12:01 a.m., local time, April 19, 2017, until 12:01 a.m., local time, January 1, 2018. This rule is effective for recreational sector parrotfishes in the EEZ off Puerto Rico May 19, 2017, until 12:01 a.m., local time, January 1, 2018. The AM-based closure for recreational parrotfishes applies at 12:01 a.m., local time, November 4, 2017, until 12:01 a.m., local time, January 1, 2018.

FOR FURTHER INFORMATION CONTACT: María del Mar López, NMFS Southeast Regional Office, telephone: 727-824-5305, email: maria.lopez@noaa.gov.

SUPPLEMENTARY INFORMATION: The reef fish fishery of the Caribbean EEZ includes wrasses and parrotfishes, and is managed under the Fishery Management Plan for the Reef Fish Fishery of Puerto Rico and the U.S. Virgin Islands (Reef Fish FMP). The Reef Fish FMP was prepared by the Caribbean Fishery Management Council (Council) and is implemented by NMFS under the authority of the Magnuson-Stevens Fishery Conservation and Management Act (Magnuson-Stevens Act) by regulations at 50 CFR part 622.

The 2010 Caribbean ACL Amendment (Amendment 2 to the FMP for the Queen Conch Resources of Puerto Rico and the U.S. Virgin Islands (Queen Conch FMP) and Amendment 5 to the Reef Fish FMP) and 2011 Caribbean ACL Amendment (Amendment 3 to the Queen Conch FMP, Amendment 6 to the Reef Fish FMP, Amendment 5 to the Spiny Lobster FMP, and Amendment 3 to FMP for Corals and Reef Associated Plants and Invertebrates of Puerto Rico and the U.S. Virgin Islands) revised the Reef Fish FMP (76 FR 82404, December 30, 2011, and 76 FR 82414, December 30, 2011). Among other actions, the 2010 and 2011 Caribbean ACL Amendments and the associated final rules established ACLs and AMs for Caribbean reef fish, including the species groups identified in this temporary rule. The 2010 and 2011 Caribbean ACL Amendments and final rules also allocated ACLs among three Caribbean island management areas, i.e., the Puerto Rico, St. Croix, and St. Thomas/St. John management areas of the EEZ, as specified in Appendix E to part 622. The ACLs for reef fish species and species groups in the Puerto Rico management area were further allocated between the commercial and recreational sectors, and AMs apply to each of these sectors separately. The Puerto Rico management area encompasses the EEZ off Puerto Rico.

The recreational ACLs in the EEZ off Puerto Rico for the species groups covered by this temporary rule are as follows and are given in round weight:

• The recreational ACL for wrasses is 5,050 lb (2,291 kg), as specified in § 622.12(a)(1)(ii)(L).

• The recreational ACL for parrotfishes is 15,263 lb (6,921 kg), as specified in § 622.12(a)(1)(ii)(B).

In accordance with regulations at 50 CFR 622.12(a), if landings from a Caribbean island management area are estimated to have exceeded the applicable ACL, the Assistant Administrator for NOAA Fisheries (AA) will file a notification with the Office of the Federal Register to reduce the length of the fishing season for the applicable species or species group the following fishing year by the amount necessary to ensure landings do not exceed the applicable ACL. NMFS evaluates landings relative to the applicable ACL based on a moving 3-year average of landings, as described in the Reef Fish FMP.

Based on the most recent available landings data, from the 2013-2015 fishing years, NMFS has determined that the recreational ACLs for wrasses and parrotfishes in the EEZ off Puerto Rico have been exceeded. In addition, NMFS has determined that the recreational ACLs for these species groups were exceeded because of increased catches and not as a result of enhanced data collection and monitoring efforts.

This temporary rule implements AMs for both recreational wrasses and parrotfishes, to reduce the respective 2017 fishing season lengths to ensure that landings do not exceed the applicable recreational ACLs in the 2017 fishing year. The 2017 fishing seasons for the recreational sectors for these species groups in the Puerto Rico management area of the EEZ are closed at the times and dates listed below. These recreational closures remain in effect until the 2018 fishing seasons begin at 12:01 a.m., local time, January 1, 2018.

• The recreational sector for wrasses is closed effective at 12:01 a.m., local time, April 19, 2017. Wrasses include hogfish, puddingwife, and Spanish hogfish.

• The recreational sector for parrotfishes is closed effective at 12:01 a.m., local time, November 4, 2017. Parrotfishes include queen, princess, striped, redband, redfin, redtail, and stoplight parrotfish.

During the Puerto Rico recreational sector closures for the wrasses and parrotfishes announced in this temporary rule, all recreational harvest of these species groups is closed, and the recreational bag and possession limits for these species groups in or from the Puerto Rico management area are zero.

Classification

The Regional Administrator for the NMFS Southeast Region has determined this temporary rule is necessary for the conservation and management of the species groups included in this temporary rule, in the EEZ off Puerto Rico, and is consistent with the Magnuson-Stevens Act and other applicable laws.

This action is taken under 50 CFR 622.12(a) and is exempt from review under Executive Order 12866.

These measures are exempt from the procedures of the Regulatory Flexibility Act because the temporary rule is issued without opportunity for prior notice and comment.

This action responds to the best scientific information available. The AA finds good cause to waive the requirements to provide prior notice and opportunity for public comment pursuant to the authority set forth at 5 U.S.C. 553(b)(B) as such prior notice and opportunity for public comment is unnecessary and contrary to the public interest. Such procedures are unnecessary because the rules implementing the ACLs and AMs for these species groups have been subject to notice and comment, and all that remains is to notify the public that the recreational ACLs were exceeded and that the AMs are being implemented for the 2017 fishing year. Prior notice and opportunity for public comment on this action would be contrary to the public interest for recreational sector wrasses in the EEZ off Puerto Rico, because allowing those procedures would require additional time and would be expected to result in harvest in excess of the established recreational ACL. Additionally, prior notice and opportunity for public comment on this action would be contrary to the public interest for recreational sector parrotfishes in the EEZ off Puerto Rico, because many of those affected by the length of the recreational fishing seasons, including charter vessel and headboat operations that book trips for clients in advance, need advance notice to adjust their business plans to account for the reduced recreational fishing seasons.

For the aforementioned reasons, the AA also finds good cause to waive the 30-day delay in the effectiveness of this action for the wrasses recreational sector under 5 U.S.C. 553(d)(3). The AA has determined that waiver of the 30-day delay in the effectiveness of this action for the parrotfishes recreational sector is not needed or appropriate, as the closure date in this temporary rule is not until November 4, 2017.

Authority: 16 U.S.C. 1801 et seq.

Dated: April 14, 2017.
Karen H. Abrams,
Acting Deputy Director, Office of Sustainable Fisheries, National Marine Fisheries Service.

[FR Doc. 2017-07914 Filed 4-14-17; 4:15 pm]

BILLING CODE 3510-22-P